OFFICE OF SCIENCE AND TECHNOLOGY POLICY

Request for Information; Identifying Critical Needs To Inform a Federal Decadal Strategic Plan for the Interagency Council for Advancing Meteorological Services; Correction

AGENCY: Office of Science and Technology Policy (OSTP).

ACTION: Notice of request for information (RFI); correction.

SUMMARY: The Office of Science and Technology Policy (OSTP) and the National Oceanic and Atmospheric Administration (NOAA), on behalf of the Interagency Council for Advancing Meteorological Services (ICAMS), published a document on August 19, 2022, concerning request for information. The document contained an incorrect email address for comments.

FOR FURTHER INFORMATION CONTACT: Scott Weaver, 202-456-4444.

SUPPLEMENTARY INFORMATION:

Correction

In the Federal Register on August 19, 2022, in FR Doc. 2022-17894, on page 51180, in the second column, correct the FOR FURTHER INFORMATION CONTACT section to correct the email address, which should read as follows:

FOR FURTHER INFORMATION CONTACT: For additional information, please direct questions to Scott Weaver at icams.portal@noaa.gov or 202-456-4444.

Dated: August 29, 2022.
Stacy Murphy,
Operations Manager.

[FR Doc. 2022-18959 Filed 9-7-22; 8:45 am]

BILLING CODE 3270-F2-P